POSTAL SERVICE

International Product Change—Priority Mail International Regional Rates Boxes Contracts

AGENCY: Postal Service™.

ACTION: Notice.

SUMMARY: The Postal Service gives notice of filing a request with the Postal Regulatory Commission to add Priority Mail International Regional Rates Boxes Contracts to the Competitive Products List.

DATES: Effective date: February 11, 2015.

FOR FURTHER INFORMATION CONTACT: Sylvia Baylis, 202-268-6464.

SUPPLEMENTARY INFORMATION: The United States Postal Service® hereby gives notice that, pursuant to 39 U.S.C. 3642, on February 4, 2015, it filed with the Postal Regulatory Commission a Request of the United States Postal Service to Add Priority Mail International Regional Rate Boxes Contracts to the Competitive Products List, and Notice of Filing (Under Seal) of Contract and Application for Non-Public Treatment of Materials Filed Under Seal. Documents are available at www.prc.gov, Docket Nos. MC2015-31 and CP2015-40.

Stanley F. Mires,
Attorney, Federal Requirements.

[FR Doc. 2015-02742 Filed 2-10-15; 8:45 am]

BILLING CODE 7710-12-P